DEPARTMENT OF THE TREASURY

Office of Thrift Supervision

Submission for OMB Review; Comment Request

August 16, 2000.

The Office of Thrift Supervision (OTS) has submitted the following public information collection requirement(s) to OMB for review and clearance under the Paperwork Reduction Act of 1995, Public Law 104-13. Interested persons may obtain copies of the submission(s) by calling the OTS Clearance Officer listed. Send comments regarding this information collection to the OMB reviewer listed and to the OTS Clearance Officer, Office of Thrift Supervision, 1700 G Street, NW., Washington, DC 20552.

DATES: Submit written comments on or before September 20, 2000.

OMB Number: 1550-0060.

Form Number: OTS Form H(b)11.

Type of Review: Regular.

Title: Savings Association Holding Company Report.

Description: The H(b)11 Report is used to determine a savings association holding company's adherence to the statutes, regulations, and conditions of approval to acquire an insured institution and whether any of the company's activities would be injurious to the operation of any subsidiary savings association.

Respondents: Savings and Loan Associations and Savings Banks.

Estimated Number of Responses: 932 responses.

Estimated Burden Hours Per Response: 62 hours.

Frequency of Response: Quarterly per respondent.

Estimated Total Reporting Burden: 57,784 hours.

Clearance Officer: Ralph E. Maxwell, (202) 906-7740, Office of Thrift Supervision, 1700 Street, NW., Washington, DC 20552.

OMB Reviewer: Alexander Hunt, (202) 395-7860, Office of Management and Budget, Room 10202, New Executive Office Building, Washington, DC 20503.

John E. Werner,
Director, Information & Management Services.

[FR Doc. 00-21132 Filed 8-18-00; 8:45 am]

BILLING CODE 6720-01-P